DEPARTMENT OF STATE

22 CFR Parts 120, 123, 124, 126, 127, and 129

RIN 1400-AC95

[Public Notice 7913 ]

Announcement of Entry Into Force of the Defense Trade Cooperation Treaty Between the United States and the United Kingdom

ACTION: Final rule; announcement of effective date.

SUMMARY: On April 13, 2012, the United States and the United Kingdom exchanged diplomatic notes bringing the Treaty between the Government of the United States of America and the Government of the United Kingdom of Great Britain and Northern Ireland Concerning Defense Trade Cooperation (Treaty Doc. 110-7) into force. This document announces the entry into force of the Treaty and announces April 13, 2012, as the effective date of the rule published on March 21, 2012, implementing the Treaty and making other updates to the International Traffic in Arms Regulations (ITAR).

DATES: This document announces the entry into force of the Treaty and announces April 13, 2012 as the effective date of the rule published on March 21, 2012 (77 FR 16592) implementing the Treaty and making other updates to the ITAR.

FOR FURTHER INFORMATION CONTACT: Sarah J. Heidema, Office of Defense Trade Controls Policy, Directorate of Defense Trade Controls, Bureau of Political-Military Affairs, U.S. Department of State, Washington, DC 20522-0112, telephone (202) 663-2809, email heidemasj@state.gov.

SUPPLEMENTARY INFORMATION: On March 21, 2012, the Department of State published a rule (77 FR 16592) amending the ITAR to implement the Treaty, and identify via a supplement the defense articles and defense services that may not be exported pursuant to the Treaty. The rule also amended the ITAR section pertaining to the Canadian exemption and added Israel to the list of countries and entities that have a shorter Congressional notification certification time period and a higher dollar value reporting threshold. This rule indicated it would become effective upon the entry into force of the Treaty and that the Department of State would publish a rule document in the Federal Register announcing the effective date of this rule. This document is being published to make such announcement.

Dated: May 30, 2012.
Beth M. McCormick,
Deputy Assistant Secretary, Defense Trade and Regional Security, Bureau of Political-Military Affairs, U.S. Department of State.

[FR Doc. 2012-13583 Filed 6-4-12; 8:45 am]

BILLING CODE 4710-25-P